DEPARTMENT OF COMMERCE

National Oceanic and Atmospheric Administration

RIN 0648-XA574

South Atlantic Fishery Management Council; Public Meeting

AGENCY: National Marine Fisheries Service (NMFS), National Oceanic and Atmospheric Administration (NOAA), Commerce.

ACTION: Notice of a meeting of the South Atlantic Fishery Management Council.

SUMMARY: The South Atlantic Fishery Management Council will hold a meeting of the full Council in August. A public comment session will be held as part of the meeting regarding agenda items. See SUPPLEMENTARY INFORMATION for additional details.

DATES: The Council meeting will be held August 9, 2011. See SUPPLEMENTARY INFORMATION for specific dates and times.

ADDRESSES: The meeting will be held at the Charleston Marriott Hotel, 170 Lockwood Blvd., Charleston, SC 29403; telephone: (1-800) 968-3569 or (843) 723-3000; fax: (843) 723-0276. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Date

1. Full Council Meeting 8 a.m.-6 p.m.: August 9, 2011

The Council will review Amendment 18 to the Coastal Migratory Pelagic Fishery Management Plan for the South Atlantic and Gulf of Mexico. The amendment addresses Annual Catch Limits (ACLs) and Accountability Measures (AMs) for the joint Gulf/South Atlantic fishery. After considering public comment, the Council may modify the document if appropriate. The Council is scheduled to approve the document for formal review by the Secretary of Commerce, contingent upon the approval of the amendment by the Gulf of Mexico Fishery Management Council.

The Council will review the recommendations of its Scientific and Statistical Committee and Law Enforcement Advisory Panel regarding the Comprehensive Annual Catch Limit (ACL) Amendment and Regulatory Amendment 11 to the Snapper Grouper Fishery Management Plan (FMP). The amendments will be modified based on public comment and, if appropriate, approved for formal review by the Secretary of Commerce. The Comprehensive ACL Amendment meets the mandates of the Magnuson-Stevens Act by establishing ACLs and AMs for species managed by the Council that are not currently undergoing overfishing. Regulatory Amendment 11 addresses options for ending overfishing of speckled hind and warsaw grouper, including modifications to current restrictions for waters deeper than 240 feet.

The Council will review Amendment 20A to the Snapper Grouper FMP addressing the management of wreckfish, modify as appropriate, and approve for public hearings.

Note: A public comment period will be held on August 9, 2011, beginning at 8:30 a.m., on Amendment 18 to the Coastal Migratory Pelagic FMP for the South Atlantic and Gulf of Mexico, the Comprehensive Annual Catch Limit Amendment, and Regulatory Amendment 11 to the Snapper Grouper FMP, followed by public comment regarding any other items on the Council agenda.

The Council will also discuss timing and priorities for the development of FMPs and amendments, review regional operation schedules, and provide guidance to staff.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda are subject to change.

Special Accommodations

This meeting is physically accessible to people with disabilities. Requests for sign language interpretation or other auxiliary aids should be directed to the Council office (see ADDRESSES) by August 4, 2011.

Dated: July 13, 2011.
Tracey L. Thompson,
Acting Director, Office of Sustainable Fisheries, National Marine Fisheries Service.

[FR Doc. 2011-17962 Filed 7-15-11; 8:45 am]

BILLING CODE 3510-22-P